FEDERAL RESERVE SYSTEM

Formations of, Acquisitions by, and Mergers of Bank Holding Companies; Correction

This notice corrects a notice (FR Doc. 05-54746) published on page 54746 of the issue for Friday, September 16, 2005.

Under the Federal Reserve Bank of Chicago heading, the entry for Capitol Bancorp, Ltd., Lansing, Michigan, is revised to read as follows:

A. Federal Reserve Bank of Chicago (Patrick M. Wilder, Assistant Vice President) 230 South LaSalle Street, Chicago, Illinois 60690-1414:

1. Capitol Bancorp, Ltd., Lansing, Michigan, and Capitol Development Bancorp, Limited I, Lansing, Michigan; to acquire 51 percent of the voting shares of Bank of Belleville, Belleville, Illinois (in organization).

Comments on this application must be received by October 13, 2005.

Board of Governors of the Federal Reserve System,
Robert deV. Frierson,
Deputy Secretary of the Board.

[FR Doc. 05-19031 Filed 9-22-05; 8:45 am]

BILLING CODE 6210-01-S